DEPARTMENT OF COMMERCE

International Trade Administration

[A-533-820]

Certain Hot-Rolled Carbon Steel Flat Products from India: Extension of Time Limit for Preliminary Results of Antidumping Duty Administrative Review

AGENCY: Import Administration, International Trade Administration, Department of Commerce.

EFFECTIVE DATE: November 4, 2003.

FOR FURTHER INFORMATION CONTACT: Timothy Finn or Kevin Williams, AD/CVD Enforcement, Office 4, Group II, Import Administration, International Trade Administration, U.S. Department of Commerce, 14th Street and Constitution Avenue NW., Washington, DC 20230; telephone (202) 482-0065 or (202) 482-2371, respectively.

Time Limits

Statutory Time Limits

Section 751(a)(3)(A) of the Tariff Act of 1930, as amended (the Act), requires the Department of Commerce (the Department) to make a preliminary determination within 245 days after the last day of the anniversary month of an order or finding for which a review is requested and a final determination within 120 days after the date on which the preliminary determination is published. However, if it is not practicable to complete the review within these time periods, section 751(a)(3)(A) of the Act allows the Department to extend the 245-day time limit for the preliminary determination to a maximum of 365 days and the time limit for the final determination to 180 days (or 300 days if the Department does not extend the time limit for the preliminary determination) from the date of publication of the preliminary determination.

Background

On January 22, 2003, the Department published a notice of initiation of an administrative review of the antidumping duty order on certain hot-rolled carbon steel flat products from India, covering the period May 3, 2001 through November 30, 2002. See Initiation of Antidumping and Countervailing Duty Administrative Reviews and Request for Revocation in Part, 68 FR 3009. On August 27, 2003 the Department published a notice of an extension of the time limit for the preliminary results of the review until November 3, 2003. See Certain Hot-Rolled Carbon Steel Flat Products from India; Extension of Time Limit for Preliminary Results of Antidumping Duty Administrative Review, 68 FR 51557.

Extension of Time Limit for Preliminary Results of Review

We determine that it is not practicable to complete the preliminary results of this review by the current due date of November 3, 2003. Therefore, the Department is further extending the time limit for completion of the preliminary results by 42 days until no later than December 15, 2003. See Decision Memorandum from Thomas F. Futtner to Holly A. Kuga, dated concurrently with this notice, which is on file in the Central Records Unit, Room B-099 of the Department's main building. We intend to issue the final results no later than 120 days after the publication of the preliminary results notice.

This extension is in accordance with section 751(a)(3)(A) of the Act.

Dated: October 27, 2003.
Holly A. Kuga,
Acting Deputy Assistant Secretary for Import Administration, Group II.

[FR Doc. 03-27697 Filed 11-3-03; 8:45 am]

BILLING CODE 3510-DS-S